ENVIRONMENTAL PROTECTION AGENCY

[FRL-6543-8]

Extension of Deadline for Submission of Superfund Redevelopment Pilot Program Proposals

AGENCY: Environmental Protection Agency (EPA).

ACTION: Announcement of submission deadline extension.

SUMMARY: Today, the Environmental Protection Agency (EPA) is providing notice that it is extending the deadline for submitting applications for selection of Superfund sites as Pilot Projects in the Superfund Redevelopment Pilot Program. The new deadline for submission is April 7, 2000. It replaces the deadline announced in the December 10, 1999 Federal Register Notice describing the program EPA is extending this deadline to give applicants more time to resolve questions and complete proposals supporting their applications. In addition, since the publication of the December 10, 1999 Notice, the EPA Headquarters official mailing address has changed. Proposals sent to the old address will still be accepted, but applicants are encouraged to send their proposals to EPA's new address given below.

DATES: To be considered for selection for the Superfund Redevelopment Pilot Program, an applicant's completed proposal must be received at EPA on, or before, 5 p.m., April 7, 2000. Proposals must be postmarked by the U.S. Postal Service on or before April 1, 2000, or received by EPA on or before April 7, 2000.

ADDRESSES: Since the publication of the December 10, 1999 Notice, EPA Headquarters official mailing address has changed. Applicants should send their proposals for the Pilot Program to the new official address: Anne Hodge, Office of Emergency and Remedial Response (5204G), U.S. Environmental Protection Agency, Ariel Rios Building, 1200 Pennsylvania Avenue, NW, Washington, DC 20460. Although applicants should use this new official address, proposals sent to the former address given in the December 10, 1999, Notice, will still be accepted. Proposals sent through registered mail or overnight mail should be sent to Anne Hodge, Office of Emergency and Remedial Response, 1235 Jefferson Davis Highway, 12th Floor, Arlington, VA 22202.

FOR FURTHER INFORMATION CONTACT: To Obtain a Proposal Packet: Call the RCRA, Superfund & EPCRA Hotline at the following numbers.

Washington, DC Metro Area: (703) 412-9810;

Outside Washington, DC Metro: (800) 424-9346;

TDD for the Hearing Impaired: (800) 553-7672.

Applicants may also obtain a proposal packet by calling the Superfund Redevelopment Initiative Helpline at (888) 526-4321, or by visiting EPA's Web site on the World Wide Web at http://www.epa.gov/superfund/programs/recycle/proposal.htm.

For Proposal Assistance: Applicants can get additional information about the Pilot Program and the proposal guidelines from EPA Regional Offices or from the Superfund Redevelopment Initiative Helpline. For more information, see “Where Can I Go for Further Information or Proposal Assistance” under the Supplementary Information section of this Notice.

SUPPLEMENTARY INFORMATION:

Why Has EPA Changed the Deadline for Submission of Proposals?

On December 10, 1999 (64 FR 69365). EPA published its solicitation of proposals for the Superfund Redevelopment Pilot Program. That Notice provided a three-month period, ending March 10, 2000, for submission of proposals. Since publication of the Notice, EPA has determined that applicants may need more time to complete their proposals. In addition, EPA has received some questions from potential applicants concerning their eligibility for the program. EPA is extending the submission period to allow sufficient time for all potential applicants to resolve any outstanding issues and to complete their proposals.

What Is the Superfund Redevelopment Pilot Program?

The Superfund Redevelopment Pilot Program is part of the Superfund Redevelopment Initiative, EPA's nationally coordinated effort to facilitate the return of Superfund sites to productive use by selecting response actions consistent with anticipated use to the extent possible. Future land use predictions are important in selecting the appropriate remedy, because future use may affect the type and frequency of future exposures that may occur at a site.

Through the Superfund Redevelopment Pilot Program, EPA is selecting pilot projects that will help political subdivisions within a state enhance their involvement in the Superfund decision-making process. This involvement consists primarily of helping EPA predict future land use at Superfund sites early in the cleanup cycle. However, where appropriate, EPA also will consider proposals for local governments to provide support to EPA with regard to land use-related decisions made during the design or construction of a remedy. Although this Notice is of particular relevance to local governments, federally recognized Indian tribes and states are also eligible to apply. Governments and tribes may be offered several types of assistance including; funds, through cooperative agreements; personnel, under the Intergovernmental Personnel Act; and facilitation services. Each pilot may receive up to $100,000 of EPA funding, or comparable value in services from potentially responsible parties, to accomplish the necessary work. EPA will select up to 40 pilot projects and expects to announce successful pilot applicants by June, 2000.

What Is the Statutory Basis for the Pilot Program?

CERCLA section 104 provides legal authority to carry out the Pilot program.

Where Can I Go for Further Information or Proposal Assistance?

Applicants should contact and, if possible, meet with EPA Regional officials to have any questions answered and to discuss the Initiative. This includes all questions concerning applicant eligibility. Individuals at EPA Regional Offices are available to answer questions about the Pilot Program and the proposal guidelines. Applicants can contact their Regions directly using the information provided in the following table:

Regional Contact Information
Region | States | Address, phone, fax, e-mail
EPA Region 1—Don Berger | CT, ME, MA, NH, RI, VT | 1 Congress Street, Ste. 1100, Boston, MA 02114-2023, Phone (617) 918-1351, Fax (617) 918-1294, berger.don@epa.gov
EPA Region 2—Dan Forger | NJ, NY, PR, VI | 290 Broadway, 18th Floor, New York, NY 10007-1866, Phone (212) 637-4402, Fax (212) 637-4439, forger.dan@epa.gov
EPA Region 3—Walt Graham | DE, DC, MD, PA, VA, WV | 1650 Arch Street, Philadelphia, PA 19103-2029, Phone (215) 814-3146, Fax (215) 814-3002, graham.walter@epa.gov
EPA Region 4—Mike Norman | AL, FL, GA, KY, MS, NC, SC, TN | Atlanta Federal Center, 61 Forsyth Street, SW, Atlanta, GA 30303-8960, Phone (404) 562-8792, Fax (404) 562-8788, norman.michael@epa.gov
EPA Region 5—Jim Mayka | IL, IN, MI, MN, OH, WI | 77 West Jackson Boulevard, Chicago, IL 60604-3507, Phone (312) 353-9229, Fax (312) 886-4071, mayka.james@epa.gov
EPA Region 6—Barbara Greenfield | AR, LA, NM, OK, TX | 1445 Ross Avenue, Ste. 1200, Dallas, TX 75202-2733, Phone (214) 665-3111, Fax (214) 665-6660, greenfield.barbara@epa.gov
EPA Region 7—Bob Feild | IA, KS, MO, NE | 901 North Fifth Street, Kansas City, KS 66101, Phone (913) 551-7697, Fax (913) 551-7063, feild.robert@epa.gov
EPA Region 8—Victor Ketellapper | CO, MT, ND, SD, UT, WY | 999 18th Street, Suite 500, Denver, CO 80202-2466, Phone (303) 312-6578, Fax (303) 312-6897, ketellapper.victor@epa.gov
EPA Region 9—Jim Hanson | AZ, CA, HI, NV, AS, GU | 75 Hawthorne Street, San Francisco, CA 94105, Phone (415) 744-2237, Fax (415) 744-1796, Hanson.jim@epa.gov
EPA Region 10—Susan Morales | AK, ID, OR, WA | 1200 Sixth Avenue, Seattle, WA 98101, Phone (206) 553-7299, Fax (206) 553-0124, morales.susan@epa.gov

The Superfund Redevelopment Initiative (SRI) Helpline at (888) 526-4321 is also available to answer general questions related to the Superfund Redevelopment Initiative and the Pilot Program.

In addition, state environmental officials may provide valuable insight for an applicant. States have an important role at Superfund sites, and state governments may have complementary programs that could support a local government's proposal.

When and How Will EPA Announce Pilot Selection?

The EPA expects to announce pilot selections in June 2000. The Agency will mail confirmation letters to successful applicants informing them of their selection as Superfund Redevelopment Pilots. Unsuccessful applicants will also be informed by mail.

Dated: February 22, 2000.
Timothy Fields, Jr.,
Assistant Administrator.

[FR Doc. 00-4656 Filed 2-25-00; 8:45 am]

BILLING CODE 6560-50-U